DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held January 23, 2003 starting at 9:00 a.m.

ADDRESSES: The meeting will be held at RTCA, Inc. 1828 L Street, NW., Suite 805, Washington, DC 20036.

FOR FURTHER INFORMATION CONTACT: RTCA Secretariat, 1828 L Street, NW, Suite 850, Washington, DC 20036, telephone (202)833-9339; fax (202) 833-9434; Web site http://www.rtca.org.

SUPPLEMENTARY INFORMATION: Pursuant to section 10(a)(2) of the Federal Advisory Committee Act (P.L. 92-463), 5 U.S.C., Appendix 2), notice is hereby given for a Program Management Committee meeting. The agenda will include:

• January 23:

• Opening Session (Welcome and Introductory Remarks, Review/Approve Summary of Previous Meeting)

• Publication Consideration/Approval

• Final Draft, Next Generation Air/Ground Communication System (NEXCOM) Safety and Performance Requirements (SPR), RTCA Paper No. 263-02/PMC-246, prepared by SC-198.

• Discussion:

• Special Committee Chairman's Reports

• Action Item Review:

• Action Item 02-02—Electronic Flight Bag (EFB) Activities Necessity for PMC Ad Hoc Group to Interpret/Review Committee Tasks

• Other Business:

• EUROCAE Activity

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 30, 2002.
Janice L. Peters,
FAA Special Assistant, RTCA Advisory Committee.

[FR Doc. 03-652 Filed 1-10-03; 8:45 am]

BILLING CODE 4910-13-M